NATIONAL AERONAUTICS AND SPACE ADMINISTRATION

[Notice: 14-115]

NASA Advisory Council; Science Committee; Meeting

AGENCY: National Aeronautics and Space Administration.

ACTION: Notice of meeting.

SUMMARY: In accordance with the Federal Advisory Committee Act, Public Law 92-463, as amended, the National Aeronautics and Space Administration (NASA) announces a meeting of the Science Committee of the NASA Advisory Council (NAC). This Committee reports to the NAC. The meeting will be held for the purpose of soliciting, from the scientific community and other persons, scientific and technical information relevant to program planning.

DATES: Monday, December 1, 2014, 8:00 a.m. to 5:00 p.m.; Tuesday, December 2, 2014, 8:00 a.m. to 6:00 p.m.; and Wednesday, December 3, 2014, 8:00 a.m. to 12:30 p.m.; Local Time.

ADDRESSES: This meeting will take place at NASA Headquarters, Room 7H41 (December 1 through 12:00 noon December 2); Room 9H40 (1:00 p.m. December 2 through 12:30 p.m. December 3); 300 E Street SW., Washington, DC 20546.

FOR FURTHER INFORMATION CONTACT: Ms. Ann Delo, Science Mission Directorate, NASA Headquarters, Washington, DC 20546, (202) 358-0750, fax (202) 358-2779, or ann.b.delo@nasa.gov.

SUPPLEMENTARY INFORMATION: The meeting will be open to the public up to the capacity of the room. The meeting will also be available telephonically and by WebEx. To participate in this meeting by telephone, any interested person may call the USA toll free conference call numbers: 800-988-9663, passcode 8015 for December 1 through 12:00 noon December 2, and 888-469-0647, passcode 5106584 for 1:00 p.m. December 2 through December 3. The WebEx link is https://nasa.webex.com/; the meeting number on December 1 is 990 382 858, and the password is Science@Dec1. The meeting number on December 2 through noon is 997 582 153, and the password is Science@Dec2. The meeting number on December 2 beginning at 1:00 p.m. through December 3, is 993 284 327 and the password is December2-3! The agenda for the meeting includes the following topics:

—Research and Analysis

—Ad Hoc Task Force on Big Data

—Technology Infusion

—Subcommittee Reports

—Joint Session with NAC Human Exploration and Operations Committee

—Radiation Environment and Countermeasures for Human Exploration to Mars

—Human Exploration and Operations Mission Directorate/Science Mission Directorate Joint Activities

—Evolvable Mars Campaign

—Asteroid Redirect Mission and Sustainable Human Exploration

Attendees will be requested to sign a register and to comply with NASA security requirements, including the presentation of a valid picture ID before receiving access to NASA Headquarters. Foreign nationals attending this meeting will be required to provide a copy of their passport and visa in addition to providing the following information no less than 10 working days prior to the meeting: full name; gender; date/place of birth; citizenship; passport information (number, country, telephone); visa information (number, type, expiration date); employer/affiliation information (name of institution, address, country, telephone); title/position of attendee. To expedite admittance, attendees with U.S. citizenship and Permanent Residents (green card holders) can provide full name and citizenship status 3 working days prior to the meeting to Ann Delo via email at ann.b.delo@nasa.gov or by fax at (202) 358-2779.

It is imperative that the meeting be held on these dates to accommodate the scheduling priorities of the key participants.

Patricia D. Rausch,
Advisory Committee Management Officer, National Aeronautics and Space Administration.

[FR Doc. 2014-26992 Filed 11-13-14; 8:45 am]

BILLING CODE 7510-13-P